DEPARTMENT OF LABOR

Employment and Training Administration

[TA-W-70,565; TA-W-70,565A]

Hewlett Packard Company Business Critical Systems, Mission Critical Business Software Division, OpenVMS Operating System Development Group, Including Employees Working Off Site in New Hampshire, Florida, New Jersey and Colorado, Marlborough, MA; Hewlett Packard Company Business Critical Systems, Mission Critical Business Software Division, OpenVMS Operating System Development Group, Including an Employee Operating Out of the State of Kansas, Marlborough, MA; Amended Certification Regarding Eligibility To Apply for Worker Adjustment Assistance

In accordance with Section 223 of the Trade Act of 1974, as amended (“Act”), 19 U.S.C. 2273, the Department of Labor issued a Certification of Eligibility to Apply for Worker Adjustment Assistance on August 27, 2009, applicable to workers of Hewlett Packard Company, Business Critical Systems, Mission Critical Business Software Division, OpenVMS Operating System Development Group, including employees working off site in New Hampshire, Florida, New Jersey and Colorado, Marlborough, Massachusetts. The notice was published in the Federal Register November 5, 2009 (74 FR 57341).

At the request of the State Agency, the Department reviewed the certification for workers of the subject firm. The workers are engaged in the production of Hewlett Packard OpenVMS Operating System and related applications.

New information shows that a worker separation has occurred involving an employee in support of the Marlborough, Massachusetts location of Hewlett Packard Company, Business Critical Business Software Division, OpenVMS Operating System Development Group, operating out of the state of Kansas. Mr. Rick Desko provided engineering functions supporting the Marlborough, Massachusetts production facility of the subject firm.

Based on these findings, the Department is amending this certification to include an employee in support of the Marlborough, Massachusetts facility operating out of the state of Kansas.

The intent of the Department's certification is to include all workers of the subject firm who were adversely affected by a shift in production of Hewlett Packard OpenVMS Operating System and related applications to India.

The amended notice applicable to TA-W-70,565 is hereby issued as follows:

All workers of Hewlett Packard Company, Business Critical Systems, Mission Critical Business Software Division, OpenVMS Operating System Development Group, Marlborough, Massachusetts including employees working off-site in New Hampshire, Florida, New Jersey and Colorado (TA-W-70,565), and also including an employee in support of Hewlett Packard Company, Business Critical Systems, Mission Critical Business Software Division, OpenVMS Operating System Development Group, Marlborough, Massachusetts working off-site in the state of Kansas (TA-W-70,565A), who became totally or partially separated from employment on or after May 21, 2008, through August 27, 2011, and all workers in the group threatened with total or partial separation from employment on date of certification through two years from the date of certification, are eligible to apply for adjustment assistance under Chapter 2 of Title II of the Trade Act of 1974, as amended.

Signed in Washington, DC, this 14th day of January 2010.
Richard Church,
Certifying Officer, Division of Trade Adjustment Assistance.

[FR Doc. 2010-1887 Filed 1-29-10; 8:45 am]

BILLING CODE 4510-FN-P